JUDICIAL CONFERENCE OF THE UNITED STATES

Advisory Committee on Civil Rules; Meeting of the Judicial Conference

AGENCY: Judicial Conference of the United States.

ACTION: Advisory Committee on Civil Rules; notice of open meeting.

SUMMARY: The Advisory Committee on Civil Rules will hold a meeting in a hybrid format with remote attendance options on April 9, 2024 in Denver, CO. The meeting is open to the public for observation but not participation. An agenda and supporting materials will be posted at least 7 days in advance of the meeting at: https://www.uscourts.gov/rules-policies/records-and-archives-rules-committees/agenda-books.

DATES: April 9, 2024.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: December 14, 2023.
Shelly L. Cox,
Management Analyst, Rules Committee Staff.

[FR Doc. 2023-27864 Filed 12-18-23; 8:45 am]

BILLING CODE 2210-55-P